DEPARTMENT OF COMMERCE

National Oceanic and Atmospheric Administration

RIN 0648-XO08

Taking and Importing Marine Mammals; Navy Training and Research, Development, Testing, and Evaluation Activities Conducted within the Mariana Islands Range Complex

AGENCY: National Marine Fisheries Service (NMFS), National Oceanic and Atmospheric Administration (NOAA), Commerce.

ACTION: Notice; receipt of application for letter of authorization; request for comments and information.

SUMMARY: NMFS has received a request from the U.S. Navy (Navy) for authorization to take marine mammals incidental to military readiness training activities and research, development, testing and evaluation (RDT&E) to be conducted in the Mariana Islands Range Complex (MIRC) for the period beginning December 2009 and ending December 2014. Pursuant to the implementing regulations of the Marine Mammal Protection Act (MMPA), NMFS is announcing our receipt of the Navy's request for the development and implementation of regulations governing the incidental taking of marine mammals and inviting information, suggestions, and comments on the Navy's application and request.

DATES: Comments and information must be received no later than April 17, 2009.

ADDRESSES: Comments on the application should be addressed to Michael Payne, Chief, Permits, Conservation and Education Division, Office of Protected Resources, National Marine Fisheries Service, 1315 East-West Highway, Silver Spring, MD 20910-3225. The mailbox address for providing email comments is PR1.0648-XO08@noaa.gov. NMFS is not responsible for e-mail comments sent to addresses other than the one provided here. Comments sent via e-mail, including all attachments, must not exceed a 10-megabyte file size.

FOR FURTHER INFORMATION CONTACT: Jolie Harrison, Office of Protected Resources, NMFS, (301) 713-2289, ext. 166.

SUPPLEMENTARY INFORMATION:

Availability

A copy of the Navy's application may be obtained by writing to the address specified above (See ADDRESSES), telephoning the contact listed above (see FOR FURTHER INFORMATION CONTACT), or visiting the internet at: http://www.nmfs.noaa.gov/pr/permits/incidental.htm. The Navy's Draft Environmental Impact Statement (DEIS) for MIRC was made available to the public on January 30, 2009, and may be viewed at http://www.marianasrangecomplexeis.com/. During the initial 45-day public comment period, the Navy hosted four public hearings.

Background

In the case of military readiness activities, sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have no more than a negligible impact on the species or stock(s), will not have an unmitigable adverse impact on the availability of the species or stock(s) for subsistence uses, and that the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

In August 2008, NMFS received an application from the Navy requesting authorization to take individuals of 28 species of marine mammals (all cetaceans) incidental to upcoming training and RDT&E activities to be conducted in the MIRC over the course of 5 years. The Navy provided an addendum to the application in February 2009. NMFS subsequently requested additional information, which was received in March 2009. These training and RDT&E activities are classified as military readiness activities. The Navy states that these training activities may expose some of the marine mammals present in the area to sound from various active tactical sonar sources or to pressure from underwater detonations. The Navy requests authorization to take individuals of 28 species of cetaceans by Level B Harassment. Further, the Navy requests authorization to take 9 individual beaked whales (of any of the following species: Blainville's beaked whale, Cuvier's beaked whale, Ginkgo-toothed whale, Longman's beaked whale) and one pantropical spotted dolphin by serious injury or mortality over the course of the 5-year rule.

Specified Activities

In the application submitted to NMFS, the Navy requests authorization to take marine mammals incidental to conducting training events and RDT&E utilizing mid- and high frequency active sonar sources and explosive detonations. These sonar and explosive sources will be utilized during Anti-submarine Warfare (ASW) Tracking and Torpedo Exercises, ASW Major Exercises (Multi Strike Group Exercises, Joint Expeditionary Exercises, and others), Extended Echo Ranging and Improved Extended Echo Ranging (EER/IEER) events, Missile Exercises, Gunnery Exercises, Bombing Exercises, Sinking Exercises, and Demolitions. Table 1-3 in the application lists the activity types, the equipment and platforms involved, and the duration and potential locations of the activities.

Information Solicited

Interested persons may submit information, suggestions, and comments concerning the Navy's request (see ADDRESSES). All information, suggestions, and comments related to the Navy's MIRC request and NMFS' potential development and implementation of regulations governing the incidental taking of marine mammals by the Navy's MIRC activities will be considered by NMFS in developing, if appropriate, the most effective regulations governing the issuance of letters of authorization.

Dated: March 12, 2009.
P. Michael Payne,
Chief, Division of Permits, Conservation, and Education, Director, Office of Protected Resources, National Marine Fisheries Service.

[FR Doc. E9-5891 Filed 3-17-09; 8:45 am]

BILLING CODE 3510-22-S